DEPARTMENT OF ENERGY

Federal Energy Regulatory Commission

[Docket No. RM21-9-000]

Technical Conference on Financial Assurance; Measures for Hydroelectric Projects; Notice Inviting Technical Conference Comments

On April 26, 2022, the Federal Energy Regulatory Commission (Commission) convened a Commission staff-led technical conference to discuss how the Commission may require additional financial assurance mechanisms in the licenses and other authorizations it issues for hydroelectric projects, to ensure that licensees have the capability to carry out license requirements and, particularly, to maintain their projects in safe condition.

All interested persons are invited to file post-technical conference comments to address issues raised during the technical conference and identified in the Supplemental Notices of Technical Conference issued on February 15, and April 12, 2022. For reference, the questions included in the Supplemental Notices are included below. Commenters need not answer all of the questions but are encouraged to organize responses using the numbering and order in the questions below. Commenters are also invited to reference material previously filed in this docket but are encouraged to avoid repetition or replication of previous material. Comments are due on Monday, June 13, 2022.

Comments may be filed electronically via the internet.¹ Instructions are available on the Commission's website http://www.ferc.gov/docs-filing/efiling.asp. For assistance, please contact FERC Online Support at FERCOnlineSupport@ferc.gov or toll free at 1-866-208-3676, or for TTY, (202) 502-8659.

¹ See 18 CFR 385.2001(a)(1)(iii) (2021).

For more information about this notice, please contact HydroFinancialAssurance@ferc.gov.

Dated: April 27, 2022.
Debbie-Anne A. Reese,
Deputy Secretary.

[FR Doc. 2022-09452 Filed 5-2-22; 8:45 am]

BILLING CODE 6717-01-P